DEPARTMENT OF AGRICULTURE

Grain Inspection, Packers and Stockyards Administration

Posting of Stockyards

Pursuant to the authority provided under section 302 of the Packers and Stockyards Act (7 U.S.C. 202), it was ascertained that the livestock market named below was a stockyard as defined by Section 302(a). Notice was given to the stockyard owner and to the public as required by Section 302(b), by posting notice at the stockyard on the date specified below, that the stockyard was subject to the provisions of the Packers and Stockyards Act, 1921, as amended (7 U.S.C. 181 et seq.).

Facility No., name, and location of stockyard | Date of posting
GA-224 Dixie Livestock Market, Inc., Oak Park, Georgia | June 26, 2000.

Done at Washington, DC, this 2nd day of February 2001.
David R. Shipman,
Acting Administrator, Grain Inspection, Packers and Stockyards Administration.

[FR Doc. 01-5645 Filed 3-7-01; 8:45 am]

BILLING CODE 3410-EN-U